DEPARTMENT OF COMMERCE

Census Bureau

Agency Information Collection Activities; Submission to the Office of Management and Budget (OMB) for Review and Approval; Comment Request; 2025 National Household Food Acquisition and Purchase Survey (FoodAPS) Pilot Test

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. This notice allows for 30 days for public comments.

Agency: U.S. Census Bureau, Commerce.

Title: 2025 National Household Food Acquisition and Purchase Survey (FoodAPS) Pilot Test.

Form Number(s): None. All information will be collected electronically.

Type of Request: Regular submission.

Number of Respondents: 5,000.

Average Hours per Response: 49 minutes.

Burden Hours: 4,092.

Needs and Uses: The National Household Food Acquisition and Purchase Survey (FoodAPS) fills a critical data gap and supports research that informs policymaking on key national priorities, including health and obesity, hunger, and nutrition assistance policy. The survey captures unique and comprehensive data about household food purchases and acquisitions, along with factors that influence household food choices.

The Census Bureau plans to request Office or Management and Budget (OMB) approval to conduct the 2025 FoodAPS Pilot Test is to examine and gain knowledge about all areas of the survey life cycle for this study, with the goal of fielding a full scale, nationally representative FoodAPS survey starting in CY2027. Additionally, the 2025 FoodAPS Pilot Test will test the feasibility of using model-based estimates to identify populations of interests. Previous iterations used a mailing-based screener. Another purpose is to determine whether administering the 2025 FoodAPS Pilot Test via self-response only can achieve the desired response rate. Previous versions of the FoodAPS used field representatives to solicit respondent participation and collect data.

The target populations for the 2025 FoodAPS Pilot Test are Supplemental Nutrition Assistance Program (SNAP) participants; Women, Infants, and Children (WIC) recipients; and low-income households. Respondent materials and survey instruments for the 2025 FoodAPS Pilot Test will be available in English and Spanish.

Affected Public: Individuals or households.

Frequency: This is a pilot survey in preparation for a full survey in CY2027.

Respondent's Obligation: Voluntary.

Legal Authority: The National Household Food Study is authorized under Title 7, Section 3171 and 2026 (a) (1) of the United States Code. The Census Bureau, conducting this study for the United States Department of Agriculture under 13 U.S.C. 8(b), is required by law to keep your information confidential and can use your responses for statistical purposes only (Title 13, U.S. Code, Section 9). Responding to the survey is voluntary. You may stop participating at any time, and there are no penalties for nonparticipation. Per the Federal Cybersecurity Enhancement Act of 2015, your data are protected from cybersecurity risks through screening of the systems that transmit your data. For more information on the Census Bureau's Data Protection and Privacy principles, please see our data protection website at https://www.census.gov/privacy/.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0971.

Sheleen Dumas,
Departmental PRA Clearance Officer, Office of the Under Secretary for Economic Affairs, Commerce Department.

[FR Doc. 2024-29839 Filed 12-17-24; 8:45 am]

BILLING CODE 3510-07-P